ENVIRONMENTAL PROTECTION AGENCY

[OW-2007-0064, FRL-8311-2]

U.S. EPA's 2007 National Clean Water Act Recognition Awards: Availability of Application and Nomination Information

AGENCY: Environmental Protection Agency (EPA).

ACTION: Notice of availability.

SUMMARY: This Notice of Availability announces the availability of application and nomination information for the U.S. EPA's 2007 Clean Water Act (CWA) Recognition Awards. The awards recognize municipalities and industries for outstanding and innovative technological achievements in wastewater treatment and pollution abatement programs. The awards are intended to educate the public about the contributions wastewater treatment facilities make to clean water; to encourage public support for municipal and industrial efforts in effective wastewater management, biosolids disposal and reuse, and wet weather pollution control; and to recognize communities that use innovative practices to meet CWA permitting requirements.

DATES: Nominations are due to EPA headquarters no later than June 29, 2007.

ADDRESSES: Applications and nomination information can be obtained from the EPA regional offices and our Web site at http://www.epa.gov/owm/intnet.htm. If additional help is needed to obtain the required documentation, see contact information below.

FOR FURTHER INFORMATION CONTACT: William Hasselkus, Telephone: (202) 564-0664. Facsimile Number: (202) 501-2396. E-mail: hasselkus.william@epa.gov. Also visit the Office of Wastewater Management's Web page at http://www.epa.gov/owm.

SUPPLEMENTARY INFORMATION: The Clean Water Act Recognition Awards are authorized by section 501(a) and (e) of the Clean Water Act, and 33 U.S.C. 1361(a) and (e). Applications and nominations for the national awards are recommended by EPA regions. The framework for the annual recognition awards program is established by regulation 40 CFR part 105. State water pollution control agencies and EPA regional offices make recommendations to headquarters for the national awards. The programs and projects being recognized are in compliance with applicable water quality requirements and have a satisfactory record with respect to environmental quality. Municipalities and industries are recognized for their demonstrated creativity and technological achievements in five awards categories as follows:

(1) Outstanding Operations and Maintenance practices at wastewater treatment facilities;

(2) Exemplary Biosolids Management projects, technology/innovation or development activities, research and public acceptance efforts;

(3) Pretreatment Program Excellence;

(4) Storm Water Management Program Excellence; and

(5) Outstanding Combined Sewer Overflow Control Programs.

Dated: May 3, 2007.
Judy Davis,
Deputy Director, Office of Wastewater Management.

[FR Doc. E7-9026 Filed 5-9-07; 8:45 am]

BILLING CODE 6560-50-P